DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for domestic and foreign licensing by the Department of the Navy.

The following patents are available for licensing:

U.S. Patent No. 6,371,384: Aqueous Foam Generating System and Method for Generating Foam Having Long Wet-to-Dry Transition Times.//U.S. Patent No. 6,380,888: Self-Contained, Self-Surveying Differential GPS Base Station and Method of Operating Same.//U.S. Patent No. 6,381,352: Method of Isolating Relevant Subject Matter in an Image.//U.S. Patent No. 6,386,086: Line Charge Sympathetic Detonation Arrestor.//U.S. Patent No. 6,408,847: Rebreather System That Supplies Fresh Make-Up Gas According to a User's Respiratory Minute Volume.//U.S. Patent No. 6,420,803: System for Improving Vehicle Safety in Crash Situations.//U.S. Patent No. 6,421,469: Image Data Manipulation for Improved Image Visualization and Analysis.//U.S. Patent No. 6,422,170: Hydrofoil Angular Alignment Tool.//U.S. Patent No. 6,431,508: Adaptable and Universal System for Attachments.//U.S. Patent No. 6,445,647: Wideband-to-Narrowband Conversion Method and Apparatus.//U.S. Patent No. 6,447,115: Dive Mask With Integrated Monitoring System.//U.S. Patent No. 6,449,566: Acoustic Scattering Measurement and Processing for Determining Variances in Multiple Features.//U.S. Patent No. 6,463,925: Hot Water Heater for Diver Using Hydrogen Catalytic Reactions.//U.S. Patent No. 6,463,942: Apparatus for Confined Underwater Cryogenic Surface Preparation.//U.S. Patent No. 6,468,358: Confined Underwater Cryogenic Surface Preparation.//U.S. Patent No. 6,470,246: Method for Controlling Lateral Position of an Underwater Towed Body.//U.S. Patent No. 6,470,805: Fire Retardant Bio-Friendly Practice Munition.//U.S. Patent No. 6,471,366: Depth-Compensated Underwater Light.//U.S. Patent No. 6,473,364: High Frequency Acoustic Float for the Versatile Mine System.//U.S. Patent No. 6,476,610: Magnetic Anomaly Sensing System and Methods for Maneuverable Sensing Platforms.//U.S. Patent No. 6,484,660: Underwater Nuclear Material Reconnaissance System.//U.S. Patent No. 6,494,035: Towing Rocket Motor Assembly.//U.S. Patent No. 6,503,115: Flexible Buoy Assembly.//U.S. Patent No. 6,505,574: Vertical Motion Compensation for a Crane's Load.//

ADDRESSES: Requests for copies of the patents cited should be directed to Coastal Systems Station, Dahlgren Division, NSWC, 6703 W. Hwy 98, Code XP01L, Panama City, FL 32407-7001.

FOR FURTHER INFORMATION CONTACT: Mr. Harvey A. Gilbert, Counsel, Coastal Systems Station, 6703 W. Hwy 98, Code XP01L, Panama City, FL 32407-7001, telephone (850) 234-4646.

Authority: 35 U.S.C. 207, 37 CFR Part 404)

Dated: February 27, 2003.
R. E. Vincent II,
Lieutenant Commander, Judge Advocate General's Corps, U.S. Navy, Federal Register Liaison Officer.

[FR Doc. 03-5126 Filed 3-4-03; 8:45 am]

BILLING CODE 3810-FF-P